FEDERAL COMMUNICATIONS COMMISSION

[Docket No. 98-204; DA 03-2896]

Media Bureau Implements New EEO Form 396-C With Mandatory Electronic Filing

AGENCY: Federal Communications Commission.

ACTION: Notice.

SUMMARY: This document announces the mandatory electronic filing of the FCC Form 396-C. The Commission suspended the previous version of this form and adopted the current version with a new EEO rule. Paper version of the form will not be accepted after deadline date unless accompanied by request for waiver.

FOR FURTHER INFORMATION CONTACT: Estella Salvatierra (202) 418-1789, Policy Division, Media Bureau.

SUPPLEMENTARY INFORMATION: This is a summary of the Media Bureau's Public Notice (``PN''), DA 03-2896, adopted and released September 23, 2003. The complete text of this PN is available for inspection and copying during normal business hours in the FCC Reference Center, Room CY-A257, 445 12th Street, SW., Washington, DC, and may also be purchased from the Commission's copy contractor, Qualex International, Portals II, 445 12th Street SW., Room CY-B-402, Washington, DC 20554, telephone (202) 863-2893; facsimile (202) 863-2898, or via e-mail qualexint@aol.com.

Synopsis of Public Notice

1. By this PN the Media Bureau announces mandatory electronic filing for FCC Form 396-C, Multi-channel Video Program Distributor EEO Program Annual Report (September, 2003 Edition).

2. Mandatory electronic filing commenced on September 23, 2003. The paper version of the form will not be accepted for filing after September 23, 2003, unless accompanied by an appropriate request for waiver of the electronic filing requirement. The forms are due to be filed with the Commission by September 30, 2003. For 2003, only, filers may file the form up to midnight on October 15, 2003, and still be timely. Users can access the electronic filing system via the Internet from the Media Bureau's Web Site at: http://www.fcc.gov/mb

3. Randomly selected MVPDs will be required to fill out portions of the Supplemental Investigation Sheet (“SIS”) at the end of the form. Only those required to file the SIS will see a box checked on page one of the electronic version of the form next to the statement, “Supplemental Investigation Sheet attached.” For those required to file the SIS, we are requiring this year that job descriptions be provided only for the technicians category (two descriptions) and that only questions one, three, and five be answered in the question list. Units will not know that they are required to fill out the SIS until they begin the electronic filing process, but that process can be stopped, and information filled out saved, before actually filing the form. As with other electronic forms, filers mayh fill out part or all the form and press “save” to save what they have filled out. “Savings” does not file the form but it does keep what has been entered in the filer's form so that the filer may return to the form later and complete it by the due date. In order to accurately file a form, filers must press the “File Form” buttom and complete the filing process. The form may be printed at any stage while it is being filled out.

4. Pursuant to the 1998 Biennial Regulatory Review—Streamlining of Mass Media Applications, Rules and Processes (63 FR 66104, December 1, 1998, Notice of Proposed Rulemaking “NPRM”), mandatory electronic filing was to commence six-months after a given form was made available for electronic use. The then Mass Media Bureau made the prior version of the Form 396-C, the Form 395-A, available for electronic use more than six months ago. The form was made available in connection with a broadcast Equal Employment Opportunity (“EEO”) rule adopted in February, 2000 that was subsequently vacated as a result of a Court order. As a result of the Court's action, the prior version of Form 396-C was suspended in January, 2001. The current version was adopted by the Second Report and Order, (68 FR 670, January 7, 2003) and Third Notice of Proposed Rule Making (67 FR 77374, December 17, 2002) in MM Docket No. 98-204, that adopted a new broadcast EEO rule. It is substantially similar to the version adopted in February, 2000, minus the annual employment report section that shows breakdown of unit workforce data by job category, race/ethnic group, and gender.

5. In the NPRM, which announced the Commission's electronic filing requirement, the Commission recognized the need for limited waivers of this requirement in light of the “burden that electronic filing could place upon some licensees who are seeking to serve the public interest, with limited resources, and succeed in a highly competitive local environment.” Such waivers will not be routinely granted and the applicant must plead with particularity the facts and circumstances warranting relief.

6. Instructions for use of the electronic filing system are available in the CDBS User's Guide which can be accessed from the electronic filing Web site. Special attention should be given to the details of the applicant account registration function, form filing function, and the fee form handling procedures, if a fee is required. Failure to follow the procedures in the User's Guide may result in an application being dismissed, returned, or not considered as officially filed.

7. Internet access to the CDBS public access system at the Commission's Web Site requires a user to have a browser such as Netscape version 3.04 or Internet Explorer version 3.51, or later.

8. For technical assistance using the system or to report problems, please contact the CDBS Help Desk at (202) 418-2MMB. To request additional information concerning specific broadcast applications, please call (202) 418-2700 (radio forms) or (202) 418-1600 (television forms).

FCC Notice Required by the Paperwork Reduction Act

9. On September 22, 2003, the Commission received notice that the Office of Management and Budget (OMB) had, on September 17, 2003, approved the information collection contained herein pursuant to the “emergency processing” provisions of the Paperwork Reduction Act of 1995 (5 CFR 1320.13). The OMB Control Number for the FCC Form 396 is 3060-1033. The annual reporting burdens for this collection of information, including the time for reviewing instructions, searching existing data sources, gathering and maintaining the required data and completing and reviewing the collection of information, are estimated to be: 2,200 respondents, 10 minutes to 2.5 hours per response per annum, for a total annual burden of 3188 hours; no annual costs. If you have any comments on this burden estimate, or how we can improve the collection and reduce the burden it causes you, please write to Les Smith, Federal Communications Commission, Room 1-A804, 445 12th Street, SW., Washington, DC, 20554. Please include the OMB Control Number: 3060-1033, in your correspondence. We will also accept your comments regarding the Paperwork Reduction Act aspects of this collection via the Internet if you send them to leslie.smith@fcc.gov or call (202) 418-0217.

10. Under 5 CFR 1320, an agency may not conduct or sponsor a collection of information unless it displays a current valid control number. No person shall be subject to any penalty for failing to comply with a collection of information subject to the Paperwork Reduction Act (PRA) that does not display a valid control number. The OMB Control Number for this collection is 3060-1033. The forgoing Notice is required by the Paperwork Reduction Act of 1995, Public Law 104-13, October 1, 1995, 44 U.S.C. 3507.

Federal Communications Commission.
Marlene H. Dortch,
Secretary.

[FR Doc. 03-24621 Filed 9-26-03; 8:45 am]

BILLING CODE 6712-01-M